COMMODITY FUTURES TRADING COMMISSION

Sunshine Act Meetings

FEDERAL REGISTER CITATION OF PREVIOUS ANNOUNCEMENT: 70 FR 173.

PREVIOUSLY ANNOUNCED TIME AND DATE OF THE MEETING: 11 a.m., Wednesday, September 21, 2005.

CHANGES IN THE MEETING: The closed meeting to discuss a Derivatives Clearing Organization Review has been changed to Monday, October 3, 2005 at 11 a.m.

FOR MORE INFORMATION CONTACT: Jean A. Webb, 202-418-5100.

Catherine D. Daniels,
Assistant Secretary of the Commission.

[FR Doc. 05-18677 Filed 9-15-05; 11:27 am]

BILLING CODE 6351-01-M